FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012043-003.

Title: MOL/HMM Japan/USWC Slot Charter Agreement.

Parties: Hyundai Merchant Marine Co., Ltd.; and Mitsui O.S.K. Lines, Ltd.

Filing Party: Robert Yoshitomi, Esq.; Nixon Peabody, LLP; 555 West Fifth Street, 46th Floor; Los Angeles, CA 90013.

Synopsis: The Amendment removes APL Co. Pte Ltd and American President Lines, Ltd. as parties, reduces the geographic scope of the Agreement, revises the name of the Agreement, and revises the termination provision and other terms.

Agreement No.: 012309.

Title: WWL/EUKOR/ARC/GLOVIS Cooperative Working Agreement.

Parties: Wallenius Wilhelmsen Logistics AS; EUKOR Car Carriers Inc.; Hyundai Glovis Co. Ltd.; and American Roll-on Roll-off Carrier, LLC.

Filing Party: Wayne Rohde, Esq; Cozen O'Connor; 1627 I Street NW., Suite 1100; Washington, DC 20006.

Synopsis: The Agreement would authorize the Parties to negotiate and/or enter into joint and/or individual contracts for marine terminal facilities and/or services.

Agreement No.: 012310.

Title: Crowley Latin America Services, LLC/Antillean Marine Shipping Corp. Space Charter Agreement.

Parties: Crowley Latin America Services, LLC and Antillean Marine Shipping Corp.

Filing Party: Wayne R. Rohde, Esq.; Cozen O'Connor, 1627 I Street NW., Washington, DC 20006.

Synopsis: The Agreement would authorize Crowley to charter space to Antillean in the trade between the U.S. Atlantic Coast and ports in the Dominican Republic and Haiti.

Agreement No.: 012311.

Title: HSDG/CCNI Agreement.

Parties: Hamburg Sudamerikanische Dampfschifffahrtsgesellschaft and Compania Chilena de Navegacion Interoceanica S.A.

Filing Party: Wayne R. Rohde, Esq.; Cozen O'Connor, 1627 I Street NW., Washington, DC 20006.

Synopsis: The Agreement would authorize certain on-going arrangements between the Parties that are ancillary to the acquisition of CCNI by HSDG, including setting forth the terms of a non-compete arrangement between the Parties.

By Order of the Federal Maritime Commission.
Dated: December 8, 2014
Rachel E. Dickon,
Assistant Secretary.

[FR Doc. 2014-29061 Filed 12-10-14; 8:45 am]

BILLING CODE 6730-01-P